DEPARTMENT OF HEALTH AND HUMAN SERVICES

National Institutes of Health

National Institute of General Medical Sciences; Amended Notice of Meeting

Notice is hereby given of a change in the meeting of the National Institute of General Medical Sciences Special Emphasis Panel, April 3, 2020, 8:30 a.m. to April 3, 2020, 5:00 p.m., Washington Marriott at Metro Center, Conference Room Capitol Hill, 775 12th Street NW, Washington, DC 20005 which was published in the Federal Register on March 9, 2020, 85 FR 13667.

The meeting notice is amended to change the Meeting Format from Regular Meeting on April 3, 2020 to a Teleconference Meeting on April 3, 2020. The meeting is closed to the public.

Dated: March 19, 2020.
Miguelina Perez,
Program Analyst, Office of Federal Advisory Committee Policy.

[FR Doc. 2020-06202 Filed 3-24-20; 8:45 am]

BILLING CODE 4140-01-P